ENVIRONMENTAL PROTECTION AGENCY

[ER-FRL-6630-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167.

An explanation of the ratings assigned to draft environmental impact statements (EISs) was published in FR dated April 12, 2002 (67 FR 17992).

Draft EISs

ERP No. D-USN-K11107-CA Rating EC2, Naval Station Treasure Island Disposal and Reuse Property, Implementation, Local Redevelopment Authority (LRA), City of San Francisco, San Francisco County, CA.

Summary: EPA raised environmental concerns about the lack of mitigation for projected air quality impacts; the absence of information on the location and amount of dredging and dredged material disposal associated with future reuse of Naval Station Treasure Island; and hazardous materials substances contamination at the site.

Final EISs

ERP No. F-AFS-J65350-MT West Lake Timber Sale and Road Decommissioning Project, Implementation, Gallatin National Forest, Hebgen Lake Ranger District, Gallatin County, MT.

Summary: EPA expressed environmental concerns and recommended that a higher level of road decommissioning be incorporated into the preferred alternative. Reductions in road density are critical to aquatic health and wildlife, including the threatened grizzly bear. EPA also believes that, to fully assess and mitigate all potential impacts of the management actions, additional information should be presented regarding aquatic monitoring.

ERP No. F-AFS-J65351-MT Beaverhead-DeerLodge National Forest, Noxious Weed Control Program, Implementation, Integrated Weed Management, Beaverhead, Butte-Silver Bow, Anaconda-Deer Lodge, Granite, Jefferson, Powell and Madison Counties, Dillon, MT.

Summary: EPA expressed environmental concerns regarding the potential for unwanted herbicide transport to surface and ground waters and other sensitive areas. EPA believes a minimal level of monitoring for herbicides in sensitive waters should be conducted.

ERP No. F-COE-E39054-FL Cape Sable Seaside Sparrow Protection, Interim Operating Plan (IOP), Alternative 7R Final Recommend Plan, Emergency Sparrow Protection Actions, Implementation, Everglades National Park, Miami-Dade County, FL.

Summary: EPA has no objection to the proposed action since Alternative 7R has addressed our previous water quality concerns, but still provides adequate protection to the Cape Sable Seaside Sparrow.

ERP No. F-COE-G30016-00 Programmatic—Mississippi River and Tributaries Morganza, Louisiana to the Gulf of Mexico Hurricane Protection Plan, Flood Damage Reduction from Tropical Storms and Hurricane Induced Tidal Flooding along Louisiana to the Gulf of Mexico.

Summary: EPA had no further comments to offer on the Final Programmatic EIS.

ERP No. F-COE-K39067-CA Salinas Valley Water Project, Construction, Monterey County Water Resources Agency (MCWRA), Issuing of Permits or Approval of Action, Monterey and San Luis Obispo Counties, CA.

Summary: No formal comment letter was sent to the preparing agency.

ERP No. F-NPS-G61041-AR Little Rock Central High School National Historic Site General Management Plan, Implementation, Future Management and Use, Little Rock, AR.

Summary: EPA expressed lack of objections to the preferred alternative.

ERP No. F-UAF-G11041-OK Altus Air Force Base (AFB), Proposed Airfield Repairs, Improvements and Adjustments to Aircrew Training and Installation of an Instrument Landing System (ILS) and a Microwave Landing System (MLS), Jackson County, OK.

Summary: EPA had no further comments to offer on the Final EIS. The Final adequately responded to comments offered on the Draft Statement.

ERP No. F-USA-E11049-KY U.S. Army Armor Center and Fort Knox Northern Training Complex, Construction and Operation of a Multi-Purpose Digital Training Ranger and a Series of Maneuver Areas, Drop and Landing Zones, Fort Knox, KY.

Summary: EPA has no objections to the proposed action.

ERP No. FA-COE-K36100-CA American River Watershed Long-Term Study, Updated Information concerning Flood Damage Reduction and Ecosystem Restoration between Folsom Dam and the Sacramento River, Sacramento, Placer and Sutter Counties, CA.

Summary: No formal comment letter was sent to the preparing agency.

ERP No. FA-FHW-K40105-CA Devil's Slide Bypass Improvement, CA-1 from Half Moon Bay Airport to Linda Mar Boulevard, Preferred Alternative Estimated Future Project-Generated Noise Study, Funding, Pacifica and San Mateo Counties, CA.

Summary: No formal comment letter was sent to the preparing agency.

ERP No. FA-NOA-A91065-00 Regulatory Adjustment 2 to the Atlantic Tunas, Swordfish and Sharks Fishery Management Plan, Updated Information concerning a Proposed Rule to Reduce Sea turtle Bycatch and Bycatch Mortality in Highly Migratory Species Fisheries, Atlantic Ocean, Gulf of Mexico and Caribbean Sea.

Summary: No formal comment letter was sent to the preparing agency.

ERP No. FS-AFS-J65288-CO Uncompahgre National Forest Travel Plan Revision and Forest Plan Amendment, Updated Information concerning New Travel Restrictions for Resource Management, Recreational Opportunities and Winter Travel, Implementation, Gunnision, Hinsdale, Mesa, Montrose, Ouray, San Juan and San Miguel Counties, CO.

Summary: No formal comment letter was sent to the preparing agency.

Dated: June 25, 2002.
Clifford Rader,
Environmental Protection Specialist, NEPA Compliance Division, Office of Federal Activities.

[FR Doc. 02-16365 Filed 6-27-02; 8:45 am]

BILLING CODE 6560-50-P